DEPARTMENT OF COMMERCE

Submission for OMB Review; Comment Request

The Department of Commerce will submit to the Office of Management and Budget (OMB) for clearance the following proposal for collection of information under the provisions of the Paperwork Reduction Act (44 U.S.C. chapter 35).

Agency: National Institute of Standards and Technology (NIST).

Title: NIST Generic Request for Customer Service-Related Data Collections.

OMB Control Number: 0693-0031.

Form Number(s): None.

Type of Request: Regular submission (extension of a currently approved information collection).

Burden Hours: 15,000.

Number of Respondents: 90,000.

Average Hours per Response: Less than 2 minutes for a response card; 2 hours for focus group participation. The estimated response time is expected to be less than 30 minutes.

Needs and Uses: NIST conducts surveys, focus groups, and other customer satisfaction/service data collections to obtain accurate information regarding customer satisfaction with NIST products, services and information. The collected information is needed and will be used to determine the kind and the quality of products, services, and information our key customers want and expect, as well as their satisfaction with and awareness or existing products, services, and information. Before each proposed data collection is begun, it will be submitted to and approved by the Office of Management and Budget.

Affected Public: Business or other for-profit organizations, individuals or households, not-for-profit institutions.

Frequency: On occasion.

Respondent's Obligation: Voluntary.

OMB Desk Officer: Jasmeet Seehra, (202) 395-3123.

Copies of the above information collection proposal can be obtained by calling or writing Jessica Jessup, Departmental Paperwork Clearance Officer, (202) 482-0336, Department of Commerce, Room 6616, 14th and Constitution Avenue NW., Washington, DC 20230 (or via the Internet at jjessup@doc.gov.

Written comments and recommendations for the proposed information collection should be sent within 30 days of publication of this notice to OMB Desk Officer, Jasmeet Seehra, Fax number (202) 395-5167 or Jasmeet_K._Seehra@omb.eop.gov.

Dated: February 6, 2012.
Gwellnar Banks,
Management Analyst, Office of the Chief Information Officer.

[FR Doc. 2012-3071 Filed 2-9-12; 8:45 am]

BILLING CODE 3510-13-P